DEPARTMENT OF ENERGY

Federal Energy Regulatory Commission

[Project No. 2216-046-NY]

New York Power Authority; Notice of Application for Amendment of License to Delete Certain Non-Jurisdictional Transmission Facilities, and Soliciting Comments, Motions to Intervene, and Protests

December 28, 2000.

a. Type of Filing: Amendment of license to delete the 187-mile-long (Cross-State Line) transmission line from the license as non-jurisdictional because it is now under control of the New York Independent System Operator (ISO).

b. Project No: 2216-046.

c. Date Filed: December 1, 2000.

d. Applicant: New York Power Authority.

e. Name of Project: Niagara Project.

f. Location: The project is located on the Niagara River in Niagara County, New York.

g. Filed Pursuant to: Federal Power Act 16 USC 791(a)-825(r), section 4.201 of the Commission's Regulations.

h. Applicant Contact: Keith Silliman, New York Power Authority, 30 South Pearl Street, Albany, NY 12207-3425

(i) FERC Contact: William Guey-Lee, (202) 219-2808, or william.gueylee@ferc.fed.us.

j. Deadline for filing comments, motions to intervene or protests: February 2, 2001.

All documents (original and eight copies) should be filed with: David Boergers, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Project: The applicant requests that the license for the Niagara Project No. 2216 be amended to delete a 187-mile-long, 345-kV, Cross-State transmission line from the license. The Cross-State line consists of two adjacent single circuit lines, running from the switchyard at the Niagara Project to Niagara Mohawk Power Corporation's Edic Substation in the vicinity of New Power Authority's Clark Energy Center at Marcy, New York, and is currently under the direct operational control of the New York Independent System Operator.

l. Location of the Filing: A copy of the filing is available for inspection and reproduction at the Commission's Public Reference Room, located at 888 First Street, NE., Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but not only those who file a motion to intervene in accordance with the Commission's Rules may become a party to the proceeding. Any comments, protests, or motions to intervene must be received on or before the specified comment date for the particular application.

Filing and Service of Responsive Documents—Any filings must bear in all capital letters the title “COMMENTS”, “PROTEST”, or “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 01-162 Filed 1-3-01; 8:45 am]

BILLING CODE 6717-01-M